DEPARTMENT OF THE INTERIOR

National Park Service

Environmental Impact Statement for Hunting on the Cape Cod National Seashore

AGENCY: National Park Service, Interior.

ACTION: Notice of intent.

SUMMARY: The National Park Service (NPS) will prepare an Environmental Impact Statement (EIS) assessing current hunting policy and potential alternative policies for effects on natural resources, user conflicts, socioeconomics, and social aspects of the Cape Cod National Seashore (CACO). The NPS will solicit public and agency comments regarding the proposed alternatives and the preferred alternative. The NPS will prepare a draft and a final EIS prior to preparing a Record of Decision (ROD).

DATES: The NPS, in conjunction with an interdisciplinary team of scientists, proposes the following general schedule to make the public aware of the timing of the public commenting periods. Through June 2004, the NPS will conduct scoping meetings to solicit public and regulatory agency comments, to inform the public of the EIS, and to produce a final scoping report. Concurrently, the NPS and its interdisciplinary team will conduct studies, some of which are ongoing, to assess the consequences of the proposed alternatives. The NPS anticipates issuing a draft EIS in December 2004 for further public and agency comment during January-February 2005. Consideration of those comments and the results of any additional studies will be used to prepare a final EIS, which is anticipated to be issued in May 2005. A ROD will be prepared documenting the NPS decision, which is scheduled for August 2005.

ADDRESSES: Written comments should be addressed to Superintendent, Cape Cod National Seashore, 99 Marconi Station Site Road, Wellfleet, MA 02667. Comments may also be electronically mailed to nancy_finley@nps.gov (please note that there is an underscore “_” between the first and last names). The draft and final EIS documents and the ROD will be made available on the CACO Web site at http://www.nps.gov/caco/pphtml/documents.html. Comments and materials received are available on request for public inspection, by appointment, during normal business hours at the above address. The public is advised that individual names and addresses may be included as part of the public record.

FOR FURTHER INFORMATION CONTACT: Nancy Finley, Chief of Natural Resources Management (see address above) at 508-349-3785.

SUPPLEMENTARY INFORMATION:

Background

Regulatory and Management Background of Hunting in CACO

The legislation that created CACO (Pub. L. 87-126, Section 7c) authorizes the Secretary of the Interior to permit hunting and to prepare hunting regulations, subject to consultation with any other government agency having authority over hunting activities.

Current Hunting Policy

Hunting has been a part of the fabric of life on Cape Cod for years. Traditional hunting experiences include waterfowl, white-tailed deer (Odocoileus virginianus), and small game hunting. Hunting for a variety of species is allowed on CACO in conformance with federal, state, and CACO regulationsand other migratory game bird hunting regulations, while the Massachusetts Division of Fish and Wildlife (MDFW) sets deer and small game hunting regulations. State regulations restrict hunting and possession of a loaded weapon within 500 feet of any building and within 150 feet of an established bicycle trail. Other selected areas are closed to hunting for safety or ecological reasons. All hunting is prohibited from March 1 through August 31 of each year. Ring-necked pheasants (Phasianus colchicus) are stocked by the MDFW in selected areas on CACO for hunting. This stocking program has been ongoing since the 1940's.

Hunting Policy and NEPA Compliance

The CACO hunting policy was challenged by some citizens' groups regarding compliance with NEPA (the National Environmental Policy Act of 1969). The general hunting program is ongoing, but the pheasant stocking program was enjoined by court order. The effects of both of these programs on ecological parameters, hunter use, and socioeconomics will be studied and considered under a variety of alternatives during the EIS process.

Proposed Action

The NPS is preparing an EIS and is in the process of soliciting agency and public comments, completing several studies on the effects of hunting on various parameters, and analyzing various proposed hunting policy alternatives.

Possible Alternatives

The NPS will consider several alternatives regarding the hunting policies at CACO. These alternatives will be determined through the public and agency input or the scoping process. The No Action alternative, retaining current hunting management practices, is a requirement of NEPA and will be included in the EIS.

The Scoping Process

The hunting program at Cape Cod National Seashore has been the subject of community discussion for some time. Aspects of hunting programs have been evaluated in the park's General Management Plan (GMP) and were subject to comment during the EIS for the GMP (1998). The hunting program was challenged by citizens' groups, and this challenge in court precipitated public comment and a public meeting March 21, 2001. An information meeting was conducted on May 11, 2004, where the community was informed about the park's hunting program. This input will be carried forward in the public scoping and will be considered as part of the public input.

The NPS and the interdisciplinary team will schedule one public scoping meeting, which will be given advanced public notice. During this meeting the public will have the opportunity to provide comments on the proposed alternatives, studies, and NEPA process. The public will also have the opportunity to hear from the NPS and the interdisciplinary team regarding the purpose of the EIS, background relating to the alternatives, the CACO mission statement, hunting policy, cooperation with other agencies, and details of the ongoing studies. Other informal meetings will be held during the public scoping period to give the community the opportunity for more direct interaction with NPS on the issue. These public scoping meetings will be announced locally and in the Boston area through the news media and on the park's Web site.

Authority

The EIS is being prepared to comply with NEPA (42 U.S.C. 4332(2)(C)) and regulations issued by the President's Council on Environmental Quality (40 CFR Parts 1500-1508).

Dated: June 15, 2004.
Bernard C. Fagan,
Deputy Chief, National Park Service Office of Policy.

[FR Doc. 04-13922 Filed 6-18-04; 8:45 am]

BILLING CODE 4312-52-P